EXPORT-IMPORT BANK OF THE UNITED STATES

Sunshine Act Meeting

ACTION: Notice of a Partially Open Meeting of the Board of Directors of the Export-Import Bank of the United States.

Time and Place: Friday, June 26, 2009 at 9:30 a.m. The meeting will be held at Ex-Im Bank in Room 1143, 811 Vermont Avenue, NW., Washington, DC 20571

Open Agenda Items: Item No. 1: Resolution presented Kamil P. Cook, General Counsel (Acting) upon her resignation.

Public Participation: The meeting will be open to public participation for Item No. 1 only.

FOR FURTHER INFORMATION CONTACT: Office of the Secretary, 811 Vermont Avenue, NW., Washington, DC 20571 (Tele. No. 202-565-3957)

John F. Simonson,
Chief Financial Officer.

[FR Doc. E9-14842 Filed 6-23-09; 8:45 am]

BILLING CODE 6690-01-M